FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 201345.

Agreement Name: CNCO/Matson Pacific Islands Vessel Sharing Agreement.

Parties: The China Navigation Co. Pte Ltd. and Matson Navigation Company, Inc.

Filing Party: David Tubman; Matson Navigation Company, Inc.

Synopsis: The Agreement authorizes the parties to establish a new service in the South Pacific island trades utilizing vessels contributed, and independently operated, by each of the parties.

Proposed Effective Date: 8/18/2020.

Location: https://www2.fmc.gov/FMC.Agreements.Web/Public/AgreementHistory/32506.

Agreement No.: 012410-003.

Agreement Name: WWOcean/Hyundai Glovis Space Charter Agreement.

Parties: Wallenius Wilhelmsen Ocean AS and Hyundai Glovis Co., Ltd.

Filing Party: Wayne Rohde; Cozen O'Connor.

Synopsis: The amendment expands the geographic scope of the Agreement to cover all U.S. trades. It also updates the name and address of WW Ocean and the address of Hyundai Glovis. It also restates the Agreement.

Proposed Effective Date: 10/2/2020.

Location: https://www2.fmc.gov/FMC.Agreements.Web/Public/AgreementHistory/1874.

Agreement No.: 011284-082.

Agreement Name: Ocean Carrier Equipment Management Association.

Parties: Maersk A/S and Hamburg Sud (acting as a single party); CMA CGM S.A., APL Co. Pte. Ltd., and American President Lines, Ltd. (acting as a single party); COSCO SHIPPING Lines Co., Ltd.; Evergreen Line Joint Service Agreement; Ocean Network Express Pte. Ltd.; Hapag-Lloyd AG and Hapag-Lloyd USA LLC (acting as a single party); HMM Co., Ltd.; Zim Integrated Shipping Services; MSC Mediterranean Shipping Company S.A.; and Wan Hai Lines Ltd.

Filing Party: Jeffrey Lawrence and Donald Kassilke; Cozen O'Connor.

Synopsis: The amendment deletes Orient Overseas Container Line Limited as a party to the Agreement.

Proposed Effective Date: 8/19/2020.

Location: https://www2.fmc.gov/FMC.Agreements.Web/Public/AgreementHistory/1560.

Dated: August 21, 2020.
Rachel Dickon,
Secretary.

[FR Doc. 2020-18725 Filed 8-25-20; 8:45 am]

BILLING CODE 6730-02-P